DEPARTMENT OF AGRICULTURE

Agricultural Marketing Service

[DOC. NO. AMS-FGIS-20-0022]

Grain Inspection Advisory Committee Meeting; Postponed

AGENCY: Agricultural Marketing Service, USDA.

ACTION: Notice of Federal Advisory Committee meeting; postponed.

SUMMARY: On March 17, 2020, The Agricultural Marketing Service (AMS) published a notice that announced the next meeting for the Grain Inspection Advisory Committee, which was scheduled for April 1, 2020, 8:30 a.m. to 5:00 p.m. & April 2, 2020, 8:30 a.m. to 5:00 p.m. AMS is publishing this notice to announce that this federal advisory committee meeting has been postponed and will be re-scheduled at a later date.

DATES: Committee Meeting; Postponed.

Day 1: April 1, 2020—Postponed.

Day 2: April 2, 2020—Postponed.

ADDRESSES: Not Applicable. Meeting is postponed.

FOR FURTHER INFORMATION CONTACT: Kendra Kline by phone at (202) 690-2410 or by email at Kendra.C.Kline@usda.gov.

SUPPLEMENTARY INFORMATION: Due to ongoing challenges created by the COVID-19 pandemic and demand on industry leaders' time, AMS and the Committee have decided that the meeting be postponed.

On March 17, 2020 (85 FR 15109), AMS published a notice that announced the next meeting of the Grain Inspection Advisory Committee, which was scheduled for Wednesday, April 1, 2020 from 8:30 a.m. to 5:00 p.m. and Thursday, April 2, 2020 from 8:30 a.m. to 5:00 p.m. AMS is publishing this notice to announce that this federal advisory committee meeting has been postponed and will be re-scheduled at a later date. The rescheduled meeting will be announced in the Federal Register. Additional information about the GIAC can be found on the AMS public website https://www.ams.usda.gov/about-ams/facas-advisory-councils/giac.

Bruce Summers,
Administrator, Agricultural Marketing Service.

[FR Doc. 2020-08249 Filed 4-17-20; 8:45 am]

BILLING CODE P